DEPARTMENT OF COMMERCE

International Trade Administration

[C-469-818]

Ripe Olives From Spain: Final Results of Countervailing Duty Administrative Review; 2017-2018; Correction

AGENCY: Enforcement and Compliance, International Trade Administration, Department of Commerce.

ACTION: Notice; correction.

SUMMARY: The Department of Commerce (Commerce) published notice in the Federal Register of July 2, 2021 in which Commerce determined that Angel Camacho Alimentacion S.L. (Camacho), producer and/or exporter of ripe olives from Spain, received countervailable subsidies during the period of review, November 28, 2017, through December 31, 2018. This notice failed to list the cross-owned affiliates of Camacho.

FOR FURTHER INFORMATION CONTACT: Dusten Hom at (202) 482-5075 or Mary Kolberg at (202) 482-1785; AD/CVD Operations, Enforcement and Compliance, International Trade Administration, U.S. Department of Commerce, 1401 Constitution Avenue NW, Washington, DC 20230.

SUPPLEMENTARY INFORMATION:

Correction

In the Federal Register of July 2, 2021, in FR Doc 2021-14142, on page 35266, in the third column, correct the Final Results as follows: ¹

¹ See Ripe Olives from Spain: Final Results of Countervailing Duty Administrative Review; 2017-2018, 86 FR 35266 (July 2, 2021) (Final Results), and accompanying Issues and Decision Memorandum (IDM).

Final Results of Review

We determine the following net countervailable subsidy rates for the period of November 28, 2017, through December 31, 2018:

Exporter/producer | Subsidy rate
Agro Sevilla Aceitunas S.COOP Andalusia | 7.01
Angel Camacho Alimentacion S.L.² | ³ 5.23
Alimentary Group DCoop S.Coop. And | 22.36

Background

² Camacho's cross-owned companies are: Grupo Angel Camacho Alimentacíon; Cuarterola S.L.; and Cucanoche S.L. These cross-owned companies are identified in the Preliminary Results. See Ripe Olives From Spain: Preliminary Results of Countervailing Duty Administrative Review; 2017-2018, 85 FR 84294 (December 28, 2020), and accompanying Preliminary Decision Memorandum at “Attribution of Subsidies”; see also Final Results IDM at “Attribution of Subsidies.”

³ This rate applies to merchandise produced and/or exported by Camacho or its cross-owned companies: Grupo Angel Camacho Alimentacíon, Cuarterola S.L., and Cucanoche S.L.

On July 2, 2021, Commerce published in the Federal Register the final results of the administrative review of the countervailing duty order on ripe olives from Spain covering the period November 28, 2017 through December 31, 2018.⁴ We failed to include Camacho's cross-owned affiliates in the notice. We are correcting the Final Results to clarify that the countervailable subsidy rate for Camacho also applies to its cross-owned affiliates: Grupo Angel Camacho Alimentacíon, Cuarterola S.L., and Cucanoche S.L.

⁴ See Final Results.

Notification to Interested Parties

This notice is issued and published in accordance with section 751(a)(1) and 777(i)(1) of the Tariff Act of 1930, as amended.

Dated: July 14, 2021.
Ryan Majerus,
Deputy Assistant Secretary for Policy and Negotiations.

[FR Doc. 2021-15416 Filed 7-19-21; 8:45 am]

BILLING CODE 3510-DS-P